DEPARTMENT OF THE INTERIOR

National Park Service

[NPS-WASO-NAGPRA-NPS0033437; PPWOCRADN0-PCU00RP14.R50000]

Notice of Intent To Repatriate Cultural Items: Haffenreffer Museum of Anthropology, Brown University, Bristol, RI

AGENCY: National Park Service, Interior.

ACTION: Notice.

SUMMARY: The Haffenreffer Museum of Anthropology, Brown University, in consultation with the appropriate Indian Tribes or Native Hawaiian organizations, has determined that the cultural items listed in this notice meet the definition of objects of cultural patrimony. Lineal descendants or representatives of any Indian Tribe or Native Hawaiian organization not identified in this notice that wish to claim these cultural items should submit a written request to the Haffenreffer Museum of Anthropology, Brown University. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Haffenreffer Museum of Anthropology, Brown University at the address in this notice by March 30, 2022.

FOR FURTHER INFORMATION CONTACT: Thierry Gentis, Curator, NAGPRA Coordinator, Haffenreffer Museum of Anthropology, Brown University, 300 Tower Street, Bristol, RI 02889, telephone (401) 863-5702, email thierry_gentis@brown.edu.

SUPPLEMENTARY INFORMATION: Notice is here given in accordance with the Native American Graves Protection and Repatriation Act (NAGPRA), 25 U.S.C. 3005, of the intent to repatriate cultural items under the control of the Haffenreffer Museum of Anthropology, Brown University, Bristol, RI, that meet the definition of objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1928, Rudolf F. Haffenreffer purchased a catlinite pipe bowl and wood pipe stem (78-45a, b) from William Everett Lincoln. The museum's catalog card states that they had been “collected by William Everett Lincoln from the Stockbridge Indians in Massachusetts prior to 1928.” Likewise, the museum's catalog cards state that two additional catlinite pipe bowls (1/396 and 1/397) purchased by Haffenreffer around the same time are to be attributed to the “Stockbridge Indians, Stockbridge Massachusetts.”

In consultation with the Historic Preservation Manager of the Stockbridge-Munsee Band of Mohican Indians, the above items were determined to be culturally affiliated with the Stockbridge Munsee Community, Wisconsin. During consultation, the museum also determined that these pipes are still used in traditional ceremonies for medicinal and spiritual purposes. Additionally, the museum determined that the use of such pipes in diplomatic ceremonies denotes their symbolic value and continued historical and cultural importance for the Stockbridge-Munsee Community, Wisconsin, and as such, that they are communally owned, i.e., they cannot be legally separated from the community by an individual.

Determinations Made by the Haffenreffer Museum of Anthropology, Brown University

Officials of the Haffenreffer Museum of Anthropology, Brown University have determined that:

• Pursuant to 25 U.S.C. 3001(3)(D), the four cultural items described above have ongoing historical, traditional, or cultural importance central to the Native American group or culture itself, rather than property owned by an individual.

• Pursuant to 25 U.S.C. 3001(2), there is a relationship of shared group identity that can be reasonably traced between the objects of cultural patrimony and the Stockbridge Munsee Community, Wisconsin.

Additional Requestors and Disposition

Lineal descendants or representatives of any Indian Tribe or Native Hawaiian organization not identified in this notice that wish to claim these cultural items should submit a written request with information in support of the claim to Thierry Gentis, Curator, Haffenreffer Museum of Anthropology, Brown University, 300 Tower Street, Bristol, RI 02889, telephone (401) 863-5702, email thierry_gentis@brown.edu, by March 30, 2022. After that date, if no additional claimants have come forward, transfer of control of these objects of cultural patrimony to the Stockbridge Munsee Community, Wisconsin may proceed.

The Haffenreffer Museum of Anthropology, Brown University is responsible for notifying the Stockbridge Munsee Community, Wisconsin that this notice has been published.

Dated: February 16, 2022.
Melanie O'Brien,
Manager, National NAGPRA Program.

[FR Doc. 2022-04110 Filed 2-25-22; 8:45 am]

BILLING CODE 4312-52-P